DEPARTMENT OF THE INTERIOR

Office of Surface Mining Reclamation and Enforcement

[S1D1S SS08011000 SX064A000 190S180110; S2D2S SS08011000 SX064A00 19XS501520]

Notice of Record of Decision for the Coal Hollow Mine Mining Plan

AGENCY: Office of Surface Mining Reclamation and Enforcement, Interior.

ACTION: Notice of record of decision.

SUMMARY: The Office of Surface Mining Reclamation and Enforcement (OSMRE) announces its decision to adopt the Bureau of Land Management's (BLM) Final Environmental Impact Statement (FEIS) for the Alton Coal Tract Lease by Application at the Coal Hollow Mine located in Kane County, UT. In accordance with Section 102 of the National Environmental Policy Act of 1969 (NEPA), the Council on Environmental Quality's (CEQ) regulations implementing NEPA, and other applicable authorities, OSMRE has conducted an independent review and evaluation of the BLM's FEIS for the Alton Coal Tract Lease by Application at the Coal Hollow Mine dated July 2018.

As a cooperating agency with responsibility for the Federal Lands Program and the preparation of mining plan decision documents for review by the Assistant Secretary for Land and Minerals Management (ASLM), OSMRE provided subject matter expertise to the BLM during the environmental review process. Based on its independent review and evaluation, OSMRE has determined the FEIS, including all supporting documentation, as incorporated by reference, adequately assesses and discloses the environmental impacts for the mining plan, and that adoption of the 2018 FEIS by OSMRE is authorized. Accordingly, OSMRE adopts the 2018 FEIS, and takes full responsibility for the scope and content that addresses the proposed mining plan at Coal Hollow Mine.

ADDRESSES: Documents are available on OSMRE's website: https://www.wrcc.osmre.gov/initiatives/coalHollowMine.shtm.

FOR FURTHER INFORMATION CONTACT: Gretchen Pinkham, OSMRE Project Manager, at 303-293-5088 or by email at osm-nepa-ut@osmre.gov. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION:

I. Background on the Project

II. Alternatives

III. Environmental Impact Analysis

IV. Decision

I. Background on the Project

As established by the Mineral Leasing Act (MLA) of 1920, the Surface Mining Control and Reclamation Act (SMCRA) of 1977, as amended (30 U.S.C. 1201-1328), and the Cooperative Agreement between the State of Utah and the Secretary of the U.S. Department of the Interior (DOI) in accordance with Section 523(c) of SMCRA (30 U.S.C. 1273(c)), Alton Coal Development, LLC Permit Application Package (PAP) (also referred to as LBA Block 1) must be reviewed by OSMRE and a mining plan approved by the ASLM before Alton Coal Development, LLC may significantly disturb the environment in order to develop the Federal Coal Lease UTU-081895. The Utah Division of Oil, Gas and Mining (DOGM) is the SMCRA regulatory authority principally responsible for reviewing and approving PAPs. Under the MLA, OSMRE is responsible for making a recommendation to the ASLM about whether the proposed mining plan modification should be approved, disapproved, or approved with conditions (30 CFR 746). OSMRE has reviewed the FEIS in its entirety for adoption and determined the analysis to be sufficient. Any future mining plan decisions within the Alternative K1 lease area would be subject to re-evaluation under NEPA.

It is OSMRE's decision to adopt the BLM Kanab Field Office “Alton Coal Tract Lease by Application” FEIS (2018), as allowed under 40 CFR 1506.3. Consistent with the BLM decision, OSMRE is selecting Alternative K1, as described in the FEIS (Section 2.5), based on the agencies' consideration of: The purpose and need for the action; the issues; current policies and regulations; the analysis of alternatives contained in the FEIS; public comments received and other information in the project record.

Alternative K1 as analyzed in the FEIS would add 2,114 acres of which approximately 1,227 acres are federal surface and mineral estate and 887 acres are split estate (private surface and federal mineral estate) for surface and underground mining activities. Under Alternative K1, the lease to be mined contains approximately 40.9 million tons of coal and an estimated 30.8 million tons of coal will be recoverable. The lease would produce approximately 2 million tons per year and mining operations would be extended by approximately 16 years.

The BLM and OSMRE, in consultation with the Utah State Historic Preservation Office, developed a programmatic agreement (Appendix N of the FEIS) pursuant to 36 CFR 800.14 that would provide for a comprehensive consideration of possible effects to historic properties in compliance with Section 106 of the National Historic Preservation Act (NHPA) of 1966, as amended (54 U.S.C. 300101-307108). Consultations with Native American Tribes are being conducted in accordance with DOI policy.

As part of its consideration of impacts of the proposed Project on threatened and endangered species, OSMRE completed the Section 7 consultation process under the Endangered Species Act (ESA) of 1973, utilizing the BLM's previous consultation completed on October 6, 2017 and came to a finding of no effect for the Ute ladies'-tresses, pursuant to Section 7 of ESA, as amended (16 U.S.C. 1531 et seq.) and its implementing regulations.

In addition to compliance with NEPA, NHPA Section 106, and ESA Section 7, all Federal actions will be in compliance with applicable requirements of the SMCRA, the Clean Water Act (33 U.S.C. 1251-1387), the Clean Air Act of 1970, as amended (42 U.S.C. 7401-7671q), the Native American Graves Protection and Repatriation Act of 1990, as amended, (25 U.S.C. 3001-3013), and all applicable laws, regulations, and Executive Orders relating to Environmental Justice (E.O. 12898), Sacred Sites (E.O. 13007), and Tribal Consultation (E.O. 13175).

II. Alternatives

The analysis in the FEIS considers direct, indirect, and cumulative impacts of the Proposed Action and three Alternatives. Alternatives for the Project that were analyzed in the FEIS include:

(a) Alternative A—No Action Alternative: This Alternative was identified by OSMRE as the environmentally preferable Alternative. Even though this is the No Action Alternative, currently permitted mining on private lands adjacent to the lease would continue to mine approximately 5 million short tons of recoverable coal from approximately 635 acres.

(b) Alternative B—Proposed Action: Under the Proposed Action, the lease would encompass approximately 3,576 acres of which approximately 2,280 acres are federal surface and mineral estate and 1,296 acres are split estate; private surface estate and federal mineral estate. The Proposed Action would include approximately 44.9 million tons of recoverable coal to be mined over 25 years at a rate of approximately 2 million tons per year.

(c) Alternative C—Reduced Tract Acreage and Seasonal Restrictions: Under Alternative C, the lease would be modified to exclude Block NW and certain mining activities in the south portion of the lease (Block S) would be subject to seasonal restrictions to reduce impacts to the local Greater Sage-Grouse population. The modified lease would encompass approximately 3,173 acres of which approximately 2,280 acres are federal surface and mineral estate and 893 acres are split estate. The modified lease area would contain 39.2 million tons of recoverable coal to be mined over 21 years at a rate of 2 million tons per year.

(d) Alternative K1—Preferred Alternative: Under Alternative K1, the lease would be modified to exclude Block NW and Block S. The lease would add 2,114 acres of which approximately 1,227 acres are federal surface and mineral estate and 887 acres are split estate (private surface and federal mineral estate) for surface and underground mining activities. Approximately 30.8 million tons of coal will be recoverable to be mined over 16 years at a rate of 2 million tons per year.

A wide range of additional Alternatives were considered by OSMRE but not carried forward for detailed analysis in the FEIS. The following Alternatives were not analyzed in the FEIS (Section 2.7) because they either did not meet the purpose and need of the Project or were not considered technically feasible or economically feasible or cost-effective:

• Alternative D: Alton Coal Development's Original Lease By Application Submittal

• Alternative E: No Surface Mining

• Alternative F: Postpone Leasing Decision Until Completion Of The Kanab Field Office Resource Management Plan Revision

• Alternative G: Postpone Leasing Decision Until More Environmentally Friendly Coal Mining Practices Are Available

• Alternative H: Construct A Coal-Fired Power Plant Next To The Tract

• Alternative I: Promote The Development Of Alternative Sources Of Energy, Natural Gas, And Energy Conservation

• Alternative J: Coal Transportation Alternatives

• Alternative K2: Tract Modifications To Address Concerns Related To Greater Sage-Grouse And Big Game

• Alternative L: Tract Modifications To Address Concerns Related To Kanab Creek, Possible Alluvial Valley Floors, And Other Water Features

• Alternative M: Maximize Flexibility Of Mining Operations

• Alternative N: Nitrogen Dioxide Emissions Control Measures

• Alternative O: Restrict Mining Operations To Daylight Hours

• Alternative P: Update The KFO RMP Unsuitability Determinations Based On The Analysis In The DEIS And Reconfigure The Tract To Exclude These Areas

• Alternative Q: Air Quality Protection Alternative

• Alternative R: Restrict Coal Truck Traffic After Sunset And Before Sunrise

• Alternative S: Reconfigure The Tract To Exclude Cultural Resources Sites Eligible For The National Register Of Historic Places

• Alternative T: Seasonal Timing Restrictions And Varying Buffer-Size Restrictions For The Tract

• Alternative U: Alternative Locations

• Alternative V: Lease All Known Recoverable Coal Resources

Certain components of the federal action would be independent of the elements of any alternative. In the FEIS, these were considered options, any one of which could be chosen in combination with any alternative and would not necessitate changes in the alternative, or vice versa. Those options that were considered but not carried forward for detailed analysis are listed below (FEIS Section 2.7).

• Kanab Field Office Route 116 Relocation Options

• Other Roads In The Tract

• Power Generation Options

III. Environmental Impact Analysis

The FEIS analyzes the potential environmental impacts to 16 different resource categories, including:

• Air Resources

• Paleontology

• Geology and Minerals

• Cultural Resources

• Soils

• Vegetation

• Wildlife: Special Status Species

• Wildlife: General

• Hazardous Materials and Hazardous and Solid Waste

• Water Resources

• Livestock Grazing

• Transportation

• Land Use and Access

• Recreation

• Socioeconomics

• Aesthetics Resources

IV. Decision

In consideration of the information presented above, OSMRE approves the Record of Decision (ROD) adopting the BLM Alton Coal Tract Lease by Application FEIS and selects Alternative K1 as the Preferred Alternative as described in the FEIS (Section 2.5). The BLM included lease stipulations which were outlined in Appendix B of BLM's ROD to minimize environmental impacts. This action can be implemented following approval of the mining plan modification by the ASLM.

Authority: 40 CFR 1506.6, 40 CFR 1506.1.

Dated: June 25, 2019.
David Berry,
Regional Director, Regions 5, 7, 8, 9, 10 and 11.

[FR Doc. 2019-14333 Filed 7-3-19; 8:45 am]

BILLING CODE 4310-05-P